DEPARTMENT OF DEFENSE

Office of the Secretary

[Transmittal No. 24-0Q]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-0Q.

Dated: January 21, 2026.
Stephanie J. Bost,
Alternate OSD Federal Register Liaison Officer, Department of Defense.

BILLING CODE 6001-FR-P

BILLING CODE 6001-FR-C

Transmittal No. 24-0Q

REPORT OF ENHANCEMENT OR UPGRADE OF SENSITIVITY OF TECHNOLOGY OR CAPABILITY (SEC. 36(B)(5)(C), AECA)

(i) Purchaser: Government of the United Arab Emirates

(ii) Sec. 36(b)(1), AECA Transmittal No.: 19-60

Date: April 23, 2020

Implementing Agency: Army

Funding Source: National Funds

(iii) Description: On April 23, 2020, Congress was notified by congressional certification transmittal number 19-60 of the possible sale, under Section 36(b)(1) of the Arms Export Control Act, of the Government of the United Arab Emirates (UAE) for a Foreign Military Sales Order (FMSO) II to provide funds for blanket order requisitions under a Cooperative Logistics Supply Support Agreement (CLSSA) for common spares/repair parts to support the United Arab Emirates' fleet of AH-64 Apache, UH-60 Black Hawk, and CH-47 Chinook aircraft, additional support, and other related elements of logistics and program support. The total estimated value was $150 million. There was no Major Defense Equipment (MDE) associated with this sale.

This transmittal notifies an extension of the previously notified Foreign Military Sales Order (FMSO) II for blanket order requisitions under a Cooperative Logistics Supply Support Agreement (CLSSA) for common spares/repair parts to support the United Arab Emirates' fleet of AH-64 Apache, UH-60 Black Hawk, and CH-47 Chinook aircraft, additional support, and other related elements of logistics and program support. There is no MDE being reported with this notification and, as such, the total MDE value remains $0. The total estimated value of the newly extended, non-MDE articles and services is $300 million; resulting in an increase in both the estimated non-MDE and overall total case value to $450 million.

(iv) Significance: The proposed sale will contribute to the UAE's ability to effectively integrate with United States (U.S.)-led coalitions and operate independently in support of U.S. interests and the security of U.S. forces in-theater and is consistent with U.S. bilateral and multilateral defense plans in the CENTCOM region.

(v) Justification: This proposed sale will support the foreign policy and national security of the U.S. by helping to improve the security of an important partner in the region. This sale is consistent with U.S. initiatives to provide key partners in the region with modern systems that will enhance interoperability with U.S. forces and increase security.

(vi) Date Report Delivered to Congress: May 12, 2025

[FR Doc. 2026-01355 Filed 1-23-26; 8:45 am]

BILLING CODE 6001-FR-P